DEPARTMENT OF HEALTH AND HUMAN SERVICES

Office of the Secretary

[Document Identifier: OS-19060-60D]

Agency Information Collection Activities; Proposed Collection; Public Comment Request

AGENCY: Office of the Secretary, HHS.

ACTION: Notice.

SUMMARY: In compliance with section 3506(c)(2)(A) of the Paperwork Reduction Act of 1995, the Office of the Secretary(OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 13, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-19060-60D for reference.

Information Collection Request Title: Living Healthier, Living Longer Program Evaluation.

Abstract: The Department of Health and Human Services (HHS), the Office of Women's Health, (OWH) Coordinating Committee on Lesbian, Gay, Bi-sexual and Transgender (LGBT) Issues has prioritized the collection of health data on LGBT populations. In response, OWH funded an initiative to “identify and test effective and innovative ways of reducing obesity in lesbian and bisexual women” (HHS, 2012). This initiative will include nutritional and physical activity counseling and activities, and will be implemented in New York City. It will be tailored to bisexual and lesbian women forty years and over. Evaluation of the initiative will address the following questions: (1) Does a healthy weight intervention based on the individual and the social environment improve health and reduce weight of older lesbian and bisexual women; and, (2) If the intervention does improve health and/or reduce weight, what attributes of the intervention contributed to this success? Information will be gathered and analyzed in an effort to identify and understand the effects of this healthy weight intervention and to inform the applicability of the intervention to other sites across the United States. The project is scheduled for one year.

Total Estimated Annualized Burden Hours
Form name | Number of respondents | Number of responses per respondent | Average burden per response (in hours) | Total burden hours
Baseline Survey | 40 | 1 | 15/60 | 10
Study Completion Survey | 40 | 1 | 15/60 | 10
Pedometer Profile | 40 | 1 | 2/60 | 1
Health Screen (physical measurement) | 40 | 3 | 10/60 | 20
Health History Questionnaire | 40 | 1 | 12/60 | 8
Intervention Experience Study Mid-Point) | 40 | 1 | 1 | 40 hours
Intervention Experience ( Study Completion) | 40 | 1 | 1 | 40 hours
Total |  |  |  | 129 hours

OS specifically requests comments on (1) The necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-05609 Filed 3-11-13; 8:45 am]

BILLING CODE 4150-33-P